DEPARTMENT OF THE TREASURY

Office of Foreign Assets Control

31 CFR Parts 538 and 560

Sudanese Sanctions Regulations; Iranian Transactions Regulations

AGENCY: Office of Foreign Assets Control, Treasury.

ACTION: Final rule.

SUMMARY: The Department of the Treasury's Office of Foreign Assets Control (“OFAC”) is amending the Sudanese Sanctions Regulations and the Iranian Transactions Regulations to authorize the processing of funds transfers for the operating expenses or other official business of third-country diplomatic or consular missions in Sudan or Iran, respectively. OFAC also is amending the Sudanese Sanctions Regulations and the Iranian Transactions Regulations to authorize the transportation of human remains to or from Sudan and Iran, respectively, for burial, cremation, or interment.

DATES: Effective Date: October 12, 2011.

FOR FURTHER INFORMATION CONTACT: Assistant Director for Sanctions Compliance & Evaluation, tel.: 202/622-2490, Assistant Director for Licensing, tel.: 202/622-2480, Assistant Director for Policy, tel.: 202/622-4855, Office of Foreign Assets Control, or Chief Counsel (Foreign Assets Control), tel.: 202/622-2410, Office of the General Counsel, Department of the Treasury (not toll free numbers).

SUPPLEMENTARY INFORMATION:

Electronic and Facsimile Availability

This document and additional information concerning OFAC are available from OFAC's Web site (http://www.treasury.gov/ofac). Certain general information pertaining to OFAC's sanctions programs also is available via facsimile through a 24-hour fax-on-demand service, tel.: 202/622-0077.

Background

OFAC is amending the Sudanese Sanctions Regulations, 31 CFR part 538 (the “SSR”), and the Iranian Transactions Regulations, 31 CFR part 560 (the “ITR”), to authorize the processing of funds transfers for the operating expenses or other official business of third-country diplomatic or consular missions in, respectively, Sudan and Iran. OFAC also is amending the SSR and the ITR to authorize the transportation of human remains to or from Sudan and Iran, respectively, for burial, cremation, or interment. In addition, the amendments authorize the importation into the United States for non-commercial purposes of finished tombstones or grave markers of Sudanese or Iranian origin.

Section 538.204 of the SSR generally prohibits the importation into the United States, directly or indirectly, of any goods or services of Sudanese origin. Section 538.205 of the SSR generally prohibits the exportation or reexportation, directly Sudan of any goods, technology, or services from the United States or by a United States person, wherever located, or requiring the issuance of a license by a Federal agency. As set forth in section 538.212(g)(1) of the SSR, these prohibitions do not apply to activities or related transactions with respect to the Specified Areas of Sudan, as defined in SSR section 538.320, provided that, inter alia, they do not involve any property or interests in property of the Government of Sudan or the petroleum or petrochemical industries in Sudan. (Section 538.418 of the SSR contains guidance regarding additional restrictions on financial transactions involving Sudan, including the Specified Areas of Sudan.)

Section 560.201 of the ITR generally prohibits the importation into the United States of any goods or services of Iranian origin or owned or controlled by the Government of Iran. Section 560.204 of the ITR generally prohibits the exportation, reexportation, sale, or supply, directly or indirectly, from the United States or by a U.S. person, wherever located, of any goods, technology, or services to Iran or the Government of Iran. Sections 560.206 and 560.208 of the ITR contain additional prohibitions that also may apply to U.S. persons' trade-related transactions with Iran or facilitation of transactions by foreign persons with Iran.

Third-country diplomatic and consular funds transfers. To ensure that the prohibitions in the SSR and the ITR do not impede the diplomatic or consular activities of third-country missions in Sudan and Iran, OFAC is adding new section 538.534 to the SSR and new section 560.541 to the ITR. These new sections authorize the processing of funds transfers otherwise prohibited by the SSR and the ITR for the operating expenses or other official business of third-country diplomatic or consular missions in Sudan and Iran, respectively.

Importation and exportation of human remains for burial, cremation, or interment. To ensure that the prohibitions in the SSR and the ITR do not have an unintended impact on the timely handling of human remains, OFAC is adding new section 538.535 to the SSR and new section 560.542 to the ITR. Paragraph (a) Of each new section authorizes the importation into the United States of human remains for burial, cremation, or interment, paragraph (b) authorizes the importation into the United States for non-commercial purposes of finished tombstones or grave markers, and paragraph (c) authorizes the exportation from the United States or by U.S. persons of human remains for burial, cremation, or interment.

Public Participation

Because the amendments of the SSR and ITR involve a foreign affairs function, the provisions of Executive Order 12866 of September 30, 1993, and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the SSR and ITR are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects

31 CFR Part 538

Banks, Banking, Currency, Diplomatic and consular missions, Exports, Human remains, Imports, Sudan.

31 CFR Part 560

Banks, Banking, Currency, Diplomatic and consular missions, Exports, Human remains, Imports, Iran.

For the reasons set forth in the preamble, the Department of the Treasury's Office of Foreign Assets Control amends 31 CFR parts 538 and 560 as follows:

PART 538—SUDANESE SANCTIONS REGULATIONS

1. The authority citation for part 538 continues to read as follows:

Authority: 3 U.S.C. 301; 18 U.S.C. 2339B, 2332d; 31 U.S.C. 321(b); 50 U.S.C. 1601-1651, 1701-1706; Pub. L. 101-410, 104 Stat. 890 (28 U.S.C. 2461 note); 22 U.S.C. 7201-7211; Pub. L. 109-344, 120 Stat. 1869; Pub. L. 110-96, 121 Stat. 1011 (50 U.S.C. 1705 note); E.O. 13067, 62 FR 59989, 3 CFR, 1997 Comp., p. 230; E.O. 13412, 71 FR 61369, 3 CFR, 2006 Comp., p. 244.

Subpart E—Licenses, Authorizations, and Statements of Licensing Policy

2. Add a new § 538.534 to subpart E to read as follows:

§ 538.534 Third-country diplomatic and consular funds transfers.

U.S. depository institutions, U.S. registered brokers or dealers in securities, and U.S. registered money transmitters are authorized to process funds transfers for the operating expenses or other official business of third-country diplomatic or consular missions in Sudan, provided such transfers are not by, to, or through a person who is included within the term Government of Sudan, as defined in § 538.305.

3. Add a new § 538.535 to subpart E to read as follows:

§ 538.535 Importation and exportation of human remains for burial, cremation, or interment authorized.

(a) The importation into the United States of human remains for burial, cremation, or interment, as well as of coffins or other receptacles containing such human remains, from Sudan is authorized.

(b) The importation into the United States for non-commercial purposes of finished tombstones or grave markers of Sudanese origin is authorized.

(c) The direct or indirect exportation from the United States, or by a United States person, wherever located, of human remains for burial, cremation, or interment, as well as of coffins or other receptacles containing such human remains, to Sudan is authorized.

(d) This section does not authorize the importation into the United States of Sudanese-origin cultural property or other items of archaeological, historical, or rare scientific importance.

Note 1 to § 538.535: See § 538.418 for additional restrictions on financial transactions involving Sudan, including the Specified Areas of Sudan.

PART 560—IRANIAN TRANSACTIONS REGULATIONS

4. The authority citation for part 560 continues to read as follows:

Authority: 3 U.S.C. 301; 18 U.S.C. 2339B, 2332d; 22 U.S.C. 2349aa-9; 22 U.S.C. 7201-7211; 31 U.S.C. 321(b); 50 U.S.C. 1601-1651, 1701-1706; Pub. L. 101-410, 104 Stat. 890 (28 U.S.C. 2461 note); Pub. L. 110-96, 121 Stat. 1011 (50 U.S.C. 1705 note); Pub. L. 111-195, 124 Stat. 1312 (22 U.S.C. 8501-8551); E.O. 12613, 52 FR 41940, 3 CFR, 1987 Comp., p. 256; E.O. 12957, 60 FR 14615, 3 CFR, 1995 Comp., p. 332; E.O. 12959, 60 FR 24757, 3 CFR, 1995 Comp., p. 356; E.O. 13059, 62 FR 44531, 3 CFR, 1997 Comp., p. 217.

Subpart E—Licensing, Authorizations, and Statements of Licensing Policy

5. Add a new § 560.541 to subpart E to read as follows:

§ 560.541 Third-country diplomatic and consular funds transfers.

United States depository institutions and United States registered brokers or dealers in securities are authorized to process funds transfers, in a manner consistent with § 560.516, for the operating expenses or other official business of third-country diplomatic or consular missions in Iran.

6. Add a new § 560.542 to subpart E to read as follows:

§ 560.542 Importation and exportation of human remains for burial, cremation, or interment authorized.

(a) The importation into the United States of human remains for burial, cremation, or interment, as well as of coffins or other receptacles containing such human remains, from Iran is authorized.

(b) The importation into the United States for non-commercial purposes of finished tombstones or grave markers of Iranian origin is authorized.

(c) The direct or indirect exportation from the United States, or by a United States person, wherever located, of human remains for burial, cremation, or interment, as well as of coffins or other receptacles containing such human remains, to Iran is authorized.

(d) This section does not authorize the importation into the United States of Iranian-origin cultural property or other items of archaeological, historical, or rare scientific importance.

Note 1 to § 560.542: United States depository institutions and United States registered brokers or dealers in securities may transfer funds in connection with transactions authorized pursuant to this section in a manner consistent with § 560.516.

Dated: October 4, 2011.
Adam J. Szubin,
Director, Office of Foreign Assets Control.

[FR Doc. 2011-26176 Filed 10-11-11; 8:45 am]

BILLING CODE 4810-AL-P